DEPARTMENT OF HOUSING AND URBAN DEVELOPMENT

[Docket No. FR-5703-N-01]

Annual Indexing of Basic Statutory Mortgage Limits for Multifamily Housing Programs

AGENCY: Office of the Assistant Secretary for Housing—Federal Housing Commissioner, HUD.

ACTION: Notice.

SUMMARY: In accordance with Section 206A of the National Housing Act, HUD has adjusted the Basic Statutory Mortgage Limits for Multifamily Housing Programs for Calendar Year 2013.

DATES: Effective Date: January 1, 2013.

FOR FURTHER INFORMATION CONTACT: Thomas L. Goade, Director, Technical Support Division, Office of Multifamily Development, Office of Housing, Department of Housing and Urban Development, 451 Seventh Street SW., Washington, DC 20410-8000, telephone (202) 402-2727 (this is not a toll-free number). Hearing or speech-impaired individuals may access this number through TTY by calling the toll-free Federal Relay Service at (800) 877-8339.

SUPPLEMENTARY INFORMATION: The FHA Downpayment Simplification Act of 2002 (Pub. L. 107-326, approved December 4, 2002) amended the National Housing Act by adding a new Section 206A (12 U.S.C. 1712a). Under Section 206A, the following sections of the National Housing Act are affected:

I. Section 207(c)(3)(A) (12 U.S.C. 1713(c)(3)(A));

II. Section 213(b)(2)(A) (12 U.S.C. 1715e (b)(2)(A));

III. Section 220(d)(3)(B)(iii)(I) (12 U.S.C. 1715k (d)(3)(B)(iii)(I));

IV. Section 221(d)(4)(ii)(I) (12 U.S.C. 1715l(d)(4)(ii)(I));

V. Section 231(c)(2)(A) (12 U.S.C. 1715v(c)(2)(A)); and

VI. Section 234(e)(3)(A) (12 U.S.C. 1715y(e)(3)(A)).

The dollar amounts in these sections are the base per unit statutory limits for FHA's multifamily mortgage programs collectively referred to as the “Dollar Amounts.” They are adjusted annually (commencing in 2004) on the effective date of the Consumer Financial Protection Bureau's adjustment of the $400 figure in the Home Ownership and Equity Protection Act of 1994 (HOEPA) (Pub. L. 103-325, approved September 23, 1994). The adjustment of the Dollar Amounts shall be calculated using the percentage change in the Consumer Price Index for All Urban Consumers (CPI-U) as applied by the Consumer Financial Protection Bureau for purposes of the above-described HOEPA adjustment.

HUD has been notified of the percentage change in the CPI-U used for the HOEPA adjustment and the effective date of the HOEPA adjustment. The percentage change in the CPI-U is 2.3% and the effective date of the HOEPA adjustment is January 1, 2013. The Dollar Amounts have been adjusted correspondingly and have an effective date of January 1, 2013.

The adjusted Dollar Amounts for Calendar Year 2013 are shown below:

Basic Statutory Mortgage Limits for Calendar Year 2013

Multifamily Loan Program

Section 207—Multifamily Housing

Section 207 pursuant to Section 223(f)—Purchase or Refinance Housing

Section 220—Housing in Urban Renewal Areas

Bedrooms | Non-Elevator | Elevator
0 | $48,646 | 56,134
1 | 53,887 | 62,869
2 | 64367 | 77,091
3 | 79,336 | 96,552
4+ | 89,818 | 109,173

Section 213—Cooperatives

Bedrooms | Non-Elevator | Elevator
0 | $52,719 | 56,134
1 | 60,785 | 63,598
2 | 73,310 | 77,335
3 | 93,837 | 100,047
4+ | 104,540 | 109,823

Section 234—Condominium Housing

Bedrooms | Non-Elevator | Elevator
0 | $53,795 | 56,611
1 | 62,026 | 64,897
2 | 74,805 | 78,914
3 | 95,753 | 102,089
4+ | 106,673 | 112,062

Section 221(d)(4)—Moderate Income Housing

Bedrooms | Non-Elevator | Elevator
0 | $48,413 | 52,296
1 | 54,955 | 59,951
2 | 66,427 | 72,900
3 | 83,378 | 94,308
4+ | 94,482 | 103,522

Section 231—Housing for the Elderly

Bedrooms | Non-Elevator | Elevator
0 | $46,029 | 52,296
1 | 51,456 | 59,951
2 | 61,446 | 72,900
3 | 73,947 | 94,308
4+ | 86,937 | 103,522

Section 207—Manufactured Home Parks

Per Space—$22,333

Dated: April 30, 2013.
Carol J. Galante,
Assistant Secretary for Housing—Federal Housing Commissioner.

[FR Doc. 2013-10676 Filed 5-3-13; 8:45 am]

BILLING CODE 4210-67-P